DEPARTMENT OF EDUCATION

Notice of Proposed Information Collection Requests

AGENCY: Department of Education.

ACTION: Correction notice.

SUMMARY: On June 11, 2002, a 30-day notice inviting comment from the public was inadvertently published for the Application for the “Annual Performance Report Forms for the FIPSE US-Brazil Higher Education Consortia Program” in the Federal Register (67 FR 41220) dated June 17, 2002. This notice amends the public comment period for this program to 60 days. The Leader, Regulatory Information Management Group, Office of the Chief Information Officer, hereby issues a correction notice on the submission for OMB review as required by the Paperwork Reduction Act of 1995.

DATES: Interested persons are invited to submit comments on or before August 19, 2002.

ADDRESSES: Requests for copies of the proposed information collection request may be accessed from http://edicsweb.ed.gov, by selecting the “Browse Pending Collections” link and by clicking on link number 1941. When you access the information collection, click on “Download Attachments” to view. Written requests for information should be addressed to Vivian Reese, Department of Education, 400 Maryland Avenue, SW, Room 5624, Regional Office Building 3, Washington, DC 20202-4651 or should be electronically mailed to the internet address vivian_reese@ed.gov. Requests may also be electronically mailed to the Internet address OCIO_RIMG@ed.gov or faxed to 202-708-9346.

FOR FURTHER INFORMATION CONTACT: Joseph Schubart (202) 708-9266.

Dated: June 17, 2002.
Joseph Schubart,
Acting Leader, Regulatory Information Management, Office of the Chief Information Officer.

[FR Doc. 02-15631 Filed 6-19-02; 8:45 am]

BILLING CODE 4000-01-P